DEPARTMENT OF ENERGY

Federal Energy Regulatory Commission

Combined Notice of Filings #2

Take notice that the Commission received the following electric rate filings:

Docket Numbers: ER15-1825-005.

Applicants: California Independent System Operator Corporation.

Description: Compliance filing: 2016-05-11 Filing in Compliance with April 29 Order Delaying RSI Effective Date to be effective 6/1/2016.

Filed Date: 5/11/16.

Accession Number: 20160511-5231.

Comments Due: 5 p.m. ET 6/1/16.

Docket Numbers: ER16-897-003.

Applicants: California Independent System Operator Corporation.

Description: Compliance filing: 2016-05-11 Filing in Compliance with April 29 Order Delaying CPM Effective Date to be effective 4/25/2016.

Filed Date: 5/11/16.

Accession Number: 20160511-5239.

Comments Due: 5 p.m. ET 6/1/16.

Docket Numbers: ER16-943-001.

Applicants: Midcontinent Independent System Operator, Inc.

Description: Tariff Amendment: 2016-05-11_SA 2896 Deficiency Response METC-WPSC GIA (J392) to be effective 2/17/2016.

Filed Date: 5/11/16.

Accession Number: 20160511-5235.

Comments Due: 5 p.m. ET 6/1/16.

Docket Numbers: ER16-1353-001.

Applicants: Midcontinent Independent System Operator, Inc.

Description: Tariff Amendment: 2016-05-11_SA 2896 Deficiency Response METC-WPSC 1st Rev. GIA (J392) to be effective 4/7/2016.

Filed Date: 5/11/16.

Accession Number: 20160511-5237.

Comments Due: 5 p.m. ET 6/1/16.

Docket Numbers: ER16-1664-000.

Applicants: New York Independent System Operator, Inc.

Description: Tariff Cancellation: Notice of cancellation SA 1698 among NYISO, NMPC and Roaring Brook to be effective 7/26/2016.

Filed Date: 5/11/16.

Accession Number: 20160511-5122.

Comments Due: 5 p.m. ET 6/1/16.

Docket Numbers: ER16-1665-000.

Applicants: Glacial Energy of California, Inc.

Description: Notice of cancellation of market based tariff of Glacial Energy of California, Inc.

Filed Date: 5/11/16.

Accession Number: 20160511-5188.

Comments Due: 5 p.m. ET 6/1/16.

Docket Numbers: ER16-1666-000.

Applicants: Glacial Energy of New York.

Description: Notice of cancellation of market based tariff of Glacial Energy of New York.

Filed Date: 5/11/16.

Accession Number: 20160511-5213.

Comments Due: 5 p.m. ET 6/1/16.

Docket Numbers: ER16-1667-000.

Applicants: PJM Interconnection, L.L.C.

Description: Section 205(d) Rate Filing: Amendment to WMPA SA No. 4066, Queue No. Y1-079 per Assignment to Allegheny to be effective 7/2/2015.

Filed Date: 5/11/16.

Accession Number: 20160511-5214.

Comments Due: 5 p.m. ET 6/1/16.

Docket Numbers: ER16-1669-000.

Applicants: NorthWestern Corporation.

Description: Section 205(d) Rate Filing: SA 31 15th Rev—NITSA with Phillips 66 Company to be effective 6/1/2016.

Filed Date: 5/11/16.

Accession Number: 20160511-5232.

Comments Due: 5 p.m. ET 6/1/16.

Take notice that the Commission received the following PURPA 210(m)(3) filings:

Docket Numbers: QM16-4-000.

Applicants: Hoosier Energy Rural Electric Coop. Inc.

Description: Application of Hoosier Energy Rural Electric Cooperative, Inc. to Terminate QF Mandatory Purchase Obligation.

Filed Date: 5/11/16.

Accession Number: 20160511-5243.

Comments Due: 5 p.m. ET 6/8/16.

Take notice that the Commission received the following electric reliability filings.

Docket Numbers: RD16-5-000.

Applicants: North American Electric Reliability Corporation.

Description: Petition of the North American Electric Reliability Corporation for Approval of the Revised Definition of Special Protection System.

Filed Date: 5/11/16.

Accession Number: 20160511-5173.

Comments Due: 5 p.m. ET 6/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2016.
Nathaniel J. Davis, Sr.,
Deputy Secretary.

[FR Doc. 2016-11709 Filed 5-17-16; 8:45 am]

BILLING CODE 6717-01-P